DEPARTMENT OF HEALTH AND HUMAN SERVICES

Health Resources and Services Administration

Meeting of the Advisory Commission on Childhood Vaccines

AGENCY: Health Resources and Services Administration (HRSA), Department of Health and Human Services.

ACTION: Notice.

SUMMARY: In accordance with the Federal Advisory Committee Act, this notice announces that the Advisory Commission on Childhood Vaccines (ACCV) has scheduled a public meeting. Information about ACCV and the agenda for this meeting can be found on the ACCV website at https://www.hrsa.gov/advisory-committees/vaccines/index.html.

DATES: The ACCV meeting will be held on January 29, 2025, 12 p.m. eastern time (ET)-4 p.m. ET and January 30, 2025, 12 p.m. ET-4 p.m. ET.

ADDRESSES: The meeting will be held by Zoom webinar. For meeting information updates and instructions for joining remote meetings, go to the ACCV website meeting page at https://www.hrsa.gov/advisory-committees/vaccines/meetings.html.

FOR FURTHER INFORMATION CONTACT: Pita Gomez, Principal Staff Liaison, Division of Injury Compensation Programs, HRSA, 5600 Fishers Lane, 8W-25A, Rockville, Maryland 20857; 800-338-2382; or ACCV@hrsa.gov.

SUPPLEMENTARY INFORMATION: ACCV provides advice and recommendations to the Secretary of Health and Human Services on policy, program development, and other matters of significance related to implementation of the National Vaccine Injury Compensation Program and concerning other matters as described under section 2119 of the Public Health Service Act (42 U.S.C. 300aa-19).

Since priorities dictate meeting times, be advised that start times, end times, and agenda items are subject to change. Refer to the ACCV website listed above for any meeting updates that may occur. For the January 2025 meeting, agenda items may include, but are not limited to: updates from the Division of Injury Compensation Programs, Department of Justice, Office of Infectious Disease and HIV/AIDS Policy (Department of Health and Human Services), Immunization Safety Office (Centers for Disease Control and Prevention), National Institute of Allergy and Infectious Diseases (National Institutes of Health), and Center for Biologics Evaluation and Research (Food and Drug Administration). Refer to the ACCV website listed above for all current and updated information concerning the January 2025 ACCV meeting, including the draft agenda that will be posted 15 calendar days before the meeting.

This meeting is open to the public and requires registration. Registration details will be provided on our ACCV website at https://www.hrsa.gov/advisory-committees/vaccines/meetings.html. All registrants will be asked to provide their name, affiliation, and email address. After registration, individuals will receive personalized Zoom information via email.

Members of the public will have the opportunity to provide comments. Public participants may submit written statements in advance of the meeting. Oral comments will be honored in the order they are requested and may be limited as time allows. Requests to submit a written statement or make oral comments to ACCV should be sent to Pita Gomez using the contact information above at least 5 business days before the meeting date.

Individuals who need special assistance or another reasonable accommodation should notify Pita Gomez using the contact information listed above at least 10 business days before the meeting.

Maria G. Button,
Director, Executive Secretariat.

[FR Doc. 2025-00389 Filed 1-8-25; 8:45 am]

BILLING CODE 4165-15-P